DEPARTMENT OF THE INTERIOR

Bureau of Indian Affairs

Notice of Intent To Prepare a Supplemental Programmatic Environmental Impact Statement for the Proposed Navajo Ten-Year Forest Management Plan, Navajo Nation, Arizona/New Mexico

AGENCY: Bureau of Indian Affairs, Interior.

ACTION: Notice.

SUMMARY: This notice advises the public that the Bureau of Indian Affairs (BIA) as lead agency, with the Navajo Nation as cooperating agency, intends to prepare a Supplemental Programmatic Environmental Impact Statement (SPEIS) for the proposed Navajo Nation Ten-Year Forest Management Plan. The purpose of the proposed action is to pursue forest management in a manner that is both environmentally sound and economically beneficial to the Navajo Nation.

DATES: Written comments must arrive by September 7, 2004.

ADDRESSES: You may mail written comments to Mr. Jonathan Martin, Regional Forester, Bureau of Indian Affairs, Navajo Regional Office, P.O. Box 1060, Gallup, New Mexico 87305.

FOR FURTHER INFORMATION CONTACT: Jonathan Martin, (928) 729-7228.

SUPPLEMENTARY INFORMATION: The proposed action is to adopt a ten-year forest management plan for the Navajo Forest. The Navajo Forest lies in the Chuska Mountains and Defiance Plateau areas of the Navajo Nation, along the Arizona-New Mexico border. The forest area encompasses nearly 600,000 acres.

A Final Programmatic Environmental Impact Statement (FPEIS) for the proposed action was originally issued in April 2002. The Environmental Protection Agency published a Notice of Availability of the FPEIS and the BIA published a Supplemental Notice in the Federal Register on April 14, 2002 (65 FR 20156 and 20197, respectively). The BIA and the Navajo Nation then deliberated for 2½ years to select an alternative for the Record of Decision on the proposed action, but because of questions about the adequacy of the FPEIS subsequently raised by Department of the Interior legal staff, no Record of Decision was issued. Instead, the BIA has decided to prepare a SPEIS to address the issues raised by the legal staff, plus any relevant information that has become available or circumstances that have changed over the 4 years since the FPEIS was issued.

The original FPEIS included five alternatives, as follows: (1) Even-aged and uneven-aged management for timber harvesting with Special Management Areas (SMAs) protecting critical wildlife habitat and vital watersheds (preferred); (2) even-aged management with SMAs; (3) uneven-aged management without SMAs; (4) no commercial harvesting; and (5) no action, which would continue current harvest levels with even-aged management and without SMAs. Areas of environmental concern addressed in the FPEIS included timber and other forest resources, biological, water and cultural resources, air quality and socio-economics. The SPEIS will further elaborate on alternatives considered, but eliminated from detailed study, such as homesites, grazing and range conditions, distribution and condition of riparian systems, wildlife occurrence and habitat, water quality and cumulative impacts.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.

Dated: July 28, 2004.
David W. Anderson,
Assistant Secretary—Indian Affairs.

[FR Doc. 04-17841 Filed 8-4-04; 8:45 am]

BILLING CODE 4310-W7-P